DEPARTMENT OF THE INTERIOR

Fish and Wildlife Service

[FWS-R8-R-2009-N0070; 80230-1265-0000-53]

Modoc National Wildlife Refuge, Modoc County, CA

AGENCY: Fish and Wildlife Service, Interior.

ACTION: Notice of availability: draft comprehensive conservation plan and environmental assessment; request for comments.

SUMMARY: We, the U.S. Fish and Wildlife Service (Service), announce the availability of a draft comprehensive conservation plan (CCP) and environmental assessment (EA) for Modoc National Wildlife Refuge (NWR) for public review and comment. In these documents, we describe alternatives, including our preferred alternative, to manage this refuge for the 15 years following approval of the final CCP. Draft compatibility determinations for several public uses are also available for review and public comment in the Draft CCP/EA.

DATES: To ensure consideration, we must receive your written comments by July 30, 2009. We will announce upcoming public meeting in local news media.

ADDRESSES: You may submit comments or requests for copies or more information by any of the following methods. You may request hard copies or a CD-ROM of the documents.

E-mail: Jackie_Ferrier@fws.gov. Include “Modoc NWR Draft CCP and EA” in the subject line of the message.

Fax: Attn: Jackie Ferrier, Refuge Planner, (530) 934-7814.

U.S. Mail: Sacramento NWR Complex, 752 County Road 99W, Willows, CA 95988.

In-Person Drop-off, Viewing, or Pickup: Call (530) 233-3572 to make an appointment (necessary for view/pickup only) during regular business hours at the Modoc NWR, at 5364 County Road 115, Alturas, CA 96101 during business hours. For more information on locations for viewing or obtaining documents, see “Public Availability of Documents” under SUPPLEMENTARY INFORMATION.

FOR FURTHER INFORMATION CONTACT: Steve Clay, Project Leader at Modoc NWR, (530) 233-3572 (telephone) or Jackie Ferrier, Refuge Planner at Sacramento NWR Complex at (530) 934-2801 (telephone).

SUPPLEMENTARY INFORMATION:

Introduction

With this notice, we continue the CCP process for Modoc NWR. We started this process through a notice in the Federal Register (72 FR 44850; August 9, 2007).

The 7,021 acre Modoc National Wildlife Refuge is located southeast of Alturas, California. The Refuge was established in 1960 pursuant to the Migratory Bird Conservation Act (16 U.S.C. 715d) and the Refuge Recreation Act (16 U.S.C. 460k-460 K.4). Lands within the Refuge have been set aside for use as an inviolate sanctuary, and other management purposes, for migratory birds, for incidental fish and wildlife-oriented recreational development, for the protection of natural resources, and for the conservation of endangered species or threatened species.

Located near the confluence of the north and south forks of the Pit River, the Refuge conserves, protects, and manages a mosaic of freshwater lakes and ponds, seasonal wetlands, irrigated meadows, grasslands, and sagebrush/juniper upland habitats. These habitats provide important resting, feeding, and nesting areas for ducks, geese, and other migratory birds including the greater sandhill crane.

Background

The CCP Process

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Improvement Act.

Public Outreach

We started the CCP for Modoc NWR in August 2007. At that time and throughout the process, public comments were requested, considered, and incorporated in numerous ways. Public outreach has included a public scoping meeting, planning updates, a CCP Web page, and Federal Register notices. Comments we received cover topics such as wildlife, habitat, refuge management, invasive species management, partnerships, and visitor services. We have considered and evaluated all of these comments, with many incorporated into the various alternatives addressed in the draft CCP and the EA.

CCP Alternatives We Are Considering

During the public scoping process with which we started work on this draft CCP, we, other governmental partners, Tribes, and the public raised several issues. Our draft CCP addresses them. A full description of each alternative is in the EA. To address these issues, we developed and evaluated the following alternatives, summarized below.

The Draft EA/CCP presents an evaluation of the environmental effects of four alternatives for managing the Modoc Refuge for the next 15 years. The Service proposes to implement Alternative C, as described in the EA. Alternative C best achieves the Refuge's purposes, vision, and goals; contributes to the Refuge System mission; addresses the significant issues and relevant mandates; and is consistent with principles of sound fish and wildlife management. This alternative is described in more detail in the CCP.

There are many features of proposed Refuge management that are common to all four alternatives. Features common to all alternatives include invasive species management, habitat management and restoration, implementation of a hunting and fishing program, and providing wildlife observation, photography, environmental education, and interpretation opportunities. There are also many features of each alternative that are distinct.

Alternative A, the no action alternative, assumes no change from current management programs and is considered the baseline to compare other alternatives against. Under Alternative A, the primary management focus of the Refuge would continue to be providing habitat for migrating and nesting migratory and resident birds with an emphasis on migratory birds by restoring and maintaining wetland, riparian, and grassland habitats. The Refuge would continue to offer wildlife-dependent recreation including wildlife observation, photography, environmental education, interpretative programs, fishing and hunting, with emphasis on youth and disabled hunters.

Under Alternative B, the Refuge would emphasize management for biological resources. Biological opportunities would be maximized to allow optimum wildlife and habitat management throughout the majority of the Refuge. The Refuges would continue its current focus of providing migratory and nesting habitat for migratory birds. Habitat and invasive species management programs would be expanded. Environmental education, interpretation, wildlife observation, wildlife photography, fishing, and hunting, programs would be reduced.

Under Alternative C, the Refuge would achieve an optimal balance of biological resource objectives and visitor services opportunities. Habitat management and associated biological resource monitoring would be improved. Visitor service opportunities would focus on quality wildlife-dependant recreation distributed throughout the Refuge. In addition, environmental education, interpretation, wildlife observation, photography, fishing, and hunting programs would be expanded beyond Alternative A.

Under Alternative D, the Refuge would emphasize management for visitor services. Wildlife-dependant recreational opportunities would be expanded on the Refuge. Opportunities for the six priority public uses: hunting, fishing, wildlife observation, photography, environmental education, and interpretation, would be expanded beyond Alternatives A, B, and C.

Public Availability of Documents

In addition to any methods in ADDRESSES, you can view or obtain documents at the following locations:

• Our Web site: http://www.fws.gov/modoc.

• Public Libraries: Modoc County Library 212 West Third Street Alturas, CA 96101, Cedarville Branch Library 460 Main Street, Cedarville, CA 96104, Conservation Library, USFWS-NCTC, 698 Conservation Way, Shepherdstown, WV 25443 during regular library hours.

Next Steps

After this comment period ends, we will analyze the comments and address them in the form of a final CCP.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: June 2, 2009.
Margaret T. Kolar,
Acting Regional Director, Pacific Southwest Region, Sacramento, California.

[FR Doc. E9-13303 Filed 6-12-09; 8:45 am]

BILLING CODE 4310-55-P